DEPARTMENT OF ENERGY

Notice of Consultation Opportunities

AGENCY: Office of Environmental Management, Department of Energy.

ACTION: Notice of consultation opportunities.

SUMMARY: The U.S. Department of Energy (DOE) announces the opportunity to consult with DOE on matters pertaining to the assessment and collection of a fee for providing long-term management and storage of elemental mercury under the Mercury Export Ban Act of 2008, as amended (MEBA). In accordance with MEBA, this consultation opportunity is intended for persons who are likely to deliver elemental mercury to a DOE-designated facility for long-term management and storage and other interested persons (Persons). DOE will conduct multiple, internet-based webinar (WebEx) meetings to facilitate consultation with Persons seeking to provide input on the assessment and collection of a fee for providing long-term management and storage of elemental mercury.

DATES: The internet-based WebEx consultation will be conducted on the following dates: WebEx interaction for additional consultations on December 1, 2020, 9:00 a.m.-12:00 p.m. (EST), and December 8, 2020, 1:00 p.m.-4:00 p.m. (EST). Written comments and information will also be accepted on or before December 15, 2020.

ADDRESSES: Consultation input will be accepted during the WebEx meetings. Persons who wish to provide consultation input verbally may sign up to speak before each meeting by submitting a request to mercury.mgt.fee@em.doe.gov. Other persons who wish to provide verbal input may be afforded the opportunity to do so as time allows. Please direct written consultation input comments to:

(1) Regulations.gov: Submit comments at http://www.regulations.gov. Follow the instructions for submitting comments.

(2) Email: David Haught at mercury.mgt.fee@em.doe.gov. Please submit comments in Microsoft Word™ or PDF file format and avoid the use of encryption.

(3) Mail: David Haught, U.S. Department of Energy, 1000 Independence Avenue SW, Washington, DC 20585.

For further information on the WebEx meetings, see the SUPPLEMENTARY INFORMATION section.

FOR FURTHER INFORMATION CONTACT: David Haught, U.S. Department of Energy, Office of Environmental Management, Office of Waste Disposal (EM-4.22), 1000 Independence Avenue SW, Washington, DC 20585, Telephone: (202) 586-5000, Email: mercury.mgt.fee@em.doe.gov.

SUPPLEMENTARY INFORMATION: Join the internet-based WebEx consultations as follows:

December 1, 2020

Website (copy and paste the following link into a web browser): https://doe.webex.com/doe/j.php?MTID=m6efbda9c4dcc9ee60af3ec1e8c6749c3.

Meeting number (access code): 199 306 1256 and meeting password: FHsBbVEd473.

Join by telephone: +1-415-527-5035 US Toll or +1-929-251-9612 USA Toll 2.

Global call-in numbers: Join from a video system or application, dial 1993061256@doe.webex.com or dial 207.182.190.20 and enter your meeting number.

December 8, 2020

Website (Copy and paste the following link into a web browser): https://doe.webex.com/doe/j.php?MTID=m2f50ad361c6431dd4cc2d633b44a0e79.

Meeting number (access code): 199 543 4933 and meeting password: dJGjM7m3w34.

Join by telephone: +1-415-527-5035 US Toll or +1-929-251-9612 USA Toll 2.

Global call-in numbers: Join from a video system or application, dial 1995434933@doe.webex.com or dial 207.182.190.20 and enter your meeting number.

Procedure for Submitting Prepared Statements for Distribution

Any person who has plans to present a prepared general statement may request that copies of his or her statement be made available at the public meeting. Such persons may submit requests, along with an advance electronic copy of their statement in PDF (preferred), Microsoft Word or Excel, WordPerfect, or text (ASCII) file format, to the appropriate address shown in the ADDRESSES section at the beginning of this notice. The request and advance copy of statements must be received at least one week before the public meeting and may be emailed, hand-delivered, or sent by mail. DOE prefers to receive requests and advance copies via email. Please include a telephone number to enable DOE staff to make a follow-up contact, if needed.

Conduct of Public Meeting

DOE will designate a DOE official to preside at the public meeting and may also use a professional facilitator to aid discussion. The meeting will not be a judicial or evidentiary-type public hearing. Audio from the meeting will be recorded for the purpose of preparing a transcript. DOE reserves the right to schedule the order of presentations and to establish the procedures governing the conduct of the public meeting.

The public meeting will be conducted in an informal, conference style. Each participant will be allowed to make a general statement (within time limits determined by DOE), before the discussion of specific topics.

DOE will permit, as time permits, other participants to comment briefly on any general statements. At the end of all prepared statements on a topic, DOE will permit participants to clarify their statements briefly and comment on statements made by others. Participants should be prepared to answer questions by DOE and by other participants concerning these issues. DOE representatives may also ask questions of participants concerning other relevant matters. The official conducting the public meeting will accept additional comments or questions from those attending, as time permits. The presiding official will announce any further procedural rules or modification of the above procedures that may be needed for the proper conduct of the public meeting.

A transcript of each public meeting will be included in the Administrative Record accompanying the Notice of Proposed Rulemaking.

Background

In accordance with MEBA section 5(b)(1), 42 U.S.C. 6939f(b)(1), this consultation opportunity is intended for persons who are likely to deliver elemental mercury to a designated facility for long-term management and storage and other interested persons (Persons). DOE will conduct multiple, internet-based webinar (WebEx) meetings to facilitate consultation with Persons seeking to provide input on the assessment and collection of a fee for providing long-term management and storage of elemental mercury. During the initial WebEx meeting, DOE will present information on topics DOE considers relevant and applicable to establishing a fee including: (1) Potential Alternative Locations for Management and Storage of Elemental Mercury (e.g., existing DOE-owned facilities, facilities owned by other Federal Government agencies, or commercially-owned facilities), (2) Fee that Covers Costs for Long-Term Management and Storage (e.g., storage, transportation, treatment, and disposal), (3) Inputs and Assumptions that Affect Cost (e.g., quantities of elemental mercury and storage durations), (4) Cost Elements (e.g., Operations and Maintenance and other costs) and MEBA Recoverable/Non-Recoverable Costs, and, (5) Fee Determination method (e.g., calculation/formula/model). DOE will also present information on the process it will follow to prepare and issue a fee for long-term management and storage of elemental mercury. DOE invites consultation input from Persons on the information presented and on topics Persons consider relevant and applicable to establishing a fee.

Submission of Comments

DOE invites all interested parties to submit in writing by the date specified previously in the DATES section of this document, comments and information on matters addressed in this document and on other matters relevant to DOE's development of the fee for the long term management and storage of elemental mercury. After the close of the comment period, DOE will consider the public comments received in the development of the fee.

Submitting comments via http://www.regulations.gov. The http://www.regulations.gov web page requires you to provide your name and contact information. Your contact information will be viewable to DOE Building Technologies Office staff only. Your contact information will not be publicly viewable except for your first and last names, organization name (if any), and submitter representative name (if any). If your comment is not processed properly because of technical difficulties, DOE will use this information to contact you. If DOE cannot read your comment due to technical difficulties and cannot contact you for clarification, DOE may not be able to consider your comment.

However, your contact information will be publicly viewable if you include it in the comment or in any documents attached to your comment. Any information that you do not want to be publicly viewable should not be included in your comment, nor in any document attached to your comment. Persons viewing comments will see only first and last names, organization names, correspondence containing comments, and any documents submitted with the comments.

Do not submit to http://www.regulations.gov information for which disclosure is restricted by statute, such as trade secrets and commercial or financial information (hereinafter referred to as Confidential Business Information (“CBI”)). Comments submitted through http://www.regulations.gov cannot be claimed as CBI. Comments received through the website will waive any CBI claims for the information submitted. For information on submitting CBI, see the Confidential Business Information section.

DOE processes submissions made through http://www.regulations.gov before posting. Normally, comments will be posted within a few days of being submitted. However, if large volumes of comments are being processed simultaneously, your comment may not be viewable for up to several weeks. Please keep the comment tracking number that http://www.regulations.gov provides after you have successfully uploaded your comment.

Submitting comments via email, hand delivery/courier, or postal mail. Comments and documents submitted via email, hand delivery/courier, or postal mail also will be posted to http://www.regulations.gov. If you do not want your personal contact information to be publicly viewable, do not include it in your comment or any accompanying documents. Instead, provide your contact information on a cover letter. Include your first and last names, email address, telephone number, and optional mailing address. The cover letter will not be publicly viewable as long as it does not include any comments.

Include contact information each time you submit comments, data, documents, and other information to DOE. If you submit via postal mail or hand delivery/courier, please provide all items on a CD, if feasible. It is not necessary to submit printed copies. No telefacsimiles (“faxes”) will be accepted.

Comments, data, and other information submitted to DOE electronically should be provided in PDF (preferred), Microsoft Word or Excel, WordPerfect, or text (ASCII) file format. Provide documents that are not secured, written in English and free of any defects or viruses. Documents should not contain special characters or any form of encryption and, if possible, they should carry the electronic signature of the author.

Confidential Business Information. According to 10 CFR 1004.11, any person submitting information that he or she believes to be confidential and exempt by law from public disclosure should submit via email, postal mail, or hand delivery/courier two well-marked copies: One copy of the document marked confidential including all the information believed to be confidential, and one copy of the document marked “non-confidential” with the information believed to be confidential deleted. Submit these documents via email to mercury.mgt.fee@em.doe.gov. DOE will make its own determination about the confidential status of the information and treat it according to its determination.

It is DOE's policy that all comments may be included in the public docket, without change and as received, including any personal information provided in the comments (except information deemed to be exempt from public disclosure).

Signing Authority

This document of the Department of Energy was signed on November 12, 2020, by Mark A. Gilbertson, Associate Deputy Assistant Secretary for Office of Regulatory and Policy Affairs, Office of Environmental Management, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed at Washington, DC, on November 13, 2020.
Treena V. Garrett,
Federal Register Liaison Officer, U.S. Department of Energy.

[FR Doc. 2020-25422 Filed 11-17-20; 8:45 am]

BILLING CODE 6450-01-P